DEPARTMENT OF ENERGY

Federal Energy Regulatory Commission

Combined Notice of Filings #1

Take notice that the Commission received the following exempt wholesale generator filings:

Docket Numbers: EG12-89-000.

Applicants: Mehoopany Wind Energy LLC.

Description: Notice of Self-Certification of Exempt Wholesale Generator Status of Mehoopany Wind Energy LLC.

Filed Date: 7/17/12.

Accession Number: 20120717-5064.

Comments Due: 5 p.m. ET 8/7/12.

Take notice that the Commission received the following electric securities filings:

Docket Numbers: ES12-47-000.

Applicants: ISO New England Inc.

Description: Application of ISO New England Inc. under Section 204 of the Federal Power Act for an Order Authorizing the Issuance of Securities.

Filed Date: 7/17/12.

Accession Number: 20120717-5094.

Comments Due: 5 p.m. ET 8/7/12.

Docket Numbers: ES12-48-000.

Applicants: ISO New England Inc.

Description: Application of ISO New England Inc. under Section 204 of the FPA For An Order Authorizing the Issuance of Securities.

Filed Date: 7/17/12.

Accession Number: 20120717-5095.

Comments Due: 5 p.m. ET 8/7/12.

Take notice that the Commission received the following qualifying facility filings:

Docket Numbers: QF12-447-000.

Applicants: LAFOURCHE SUGARS, LLC.

Description: Form 556—Notice of Self-Certification for Qualifying Cogeneration Facility Status of LAFOURCHE SUGARS, LLC.

Filed Date: 7/17/12.

Accession Number: 20120717-5137.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2012.
Nathaniel J. Davis, Sr.,
Deputy Secretary.

[FR Doc. 2012-18116 Filed 7-24-12; 8:45 am]

BILLING CODE 6717-01-P